DEPARTMENT OF HEALTH AND HUMAN SERVICES

Administration for Children and Families

Submission for OMB Review: Updates to Approved Information Collection

AGENCY: Office of Planning, Research, and Evaluation; ACF; HHS.

ACTION: Public comment request.

Title: Evaluation of Employment Coaching for TANF and Other Low-Income Populations (0970-0506).

SUMMARY: The Administration for Children and Families (ACF) is proposing an increase in the number of sites for data collection activities to be conducted as part of the Evaluation of Employment Coaching for TANF and Other Low-Income Populations. The Office of Management and Budget (OMB) Office of Information and Regulatory Affairs approved this information collection in March 2018 (0970-0506). As approved, we planned to include three employment programs. We have since identified three additional employment programs to include in the study. This Notice provides the opportunity for public comment on the addition of three sites.

This study will provide an opportunity to learn more about the potential of coaching to help clients achieve self-sufficiency and other desired employment-related outcomes.

The programs included in the study are Temporary Assistance for Needy Families (TANF) agencies and other public or private employment programs that serve low-income individuals. Selected sites include a robust coaching component and have the capacity to conduct a rigorous impact evaluation, among other criteria. This study will provide information on whether coaching helps people obtain and retain jobs, advance in their careers, move toward self-sufficiency, and improve their overall well-being. To meet these objectives, this study includes an impact and implementation study.

The impact study involves participants being randomly assigned to either a “program group,” who will be paired with a coach, or to a “control group,” who will not be paired with a coach. The effectiveness of the coaching will be determined by differences between members of the program and control groups in outcomes such as obtaining and retaining employment, earnings, measures of self-sufficiency, and measures of self-regulation.

The implementation study will document coaching practices, describe lessons learned from implementing coaching, and enhance interpretation of the impact study findings.

The proposed information collection activities have not changed since OMB/OIRA approval. The only change to this information collection is to add three additional sites.

Respondents: Program staff and individuals enrolled in the Evaluation of Employment Coaching for TANF and Other Low-Income Populations. Program staff may include coaches, case managers, workshop instructors, job developers, supervisors, and managers. All participants will be able to opt out of participating in the data collection activities.

Annual Burden Estimates
Instrument | Original request: Total number of respondents | Updated request: Total number of respondents | Updated request: Annual number of respondents | Number of responses per respondent | Average burden hours per response | Updated request: Annual burden hours
Baseline data collection—study participants | 6,000 | 6,000 | 2,000 | 1 | .33 | 660
Baseline data collection—staff | 60 | 60 | 20 | 100 | .33 | 660
First follow-up survey | 2,400 | 4,800 | 1,600 | 1 | 1 | 1,600
Semi-structured staff interviews | 66 | 132 | 44 | 1 | 1.5 | 66
Staff survey | 48 | 96 | 32 | 1 | .75 | 24
In-depth participant interviews | 24 | 48 | 16 | 1 | 2.5 | 40
Staff reports of program service receipt | 30 | 60 | 20 | 5,200 | .03 | 3,120
Video recordings of coaching sessions | 27 | 54 | 18 | 10 | .1 | 18

Estimated Total Annual Burden Hours: 6,188.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following:

Office of Management and Budget, Paperwork Reduction Project, Email: OIRA_SUBMISSION@OMB.EOP.GOV, Attn: Desk Officer for the Administration for Children and Families.

Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

(Authority: Section 413 of the Social Security Act, as amended by the FY 2017 Consolidated Appropriations Act, 2017 (Pub. L. 115-31)

Mary B. Jones,
ACF/OPRE Certifying Officer.

[FR Doc. 2018-14793 Filed 7-10-18; 8:45 am]

BILLING CODE 4184-09-P